DEPARTMENT OF ENERGY

Federal Energy Regulatory Commission

[Docket Nos. PF12-12-000; PF12-13-000]

Cameron Interstate Pipeline, LLC, Cameron LNG, LLC; Notice of Intent To Prepare an Environmental Impact Statement for the Planned Cameron Pipeline Expansion Project and Cameron LNG Liquefaction Project, Request for Comments on Environmental Issues, and Notice of Public Scoping Meeting

The staff of the Federal Energy Regulatory Commission (FERC or Commission) will prepare an environmental impact statement (EIS) that will identify and address the environmental impacts that could result from the construction and operation of the Cameron Pipeline Expansion Project and the Cameron Liquefied Natural Gas (LNG) Liquefaction Project (collectively Cameron Liquefaction Project or Project) planned by Cameron Interstate Pipeline, LLC and Cameron LNG, LLC (collectively Cameron), respectively. The Commission will use this EIS in its decision-making process to determine whether the Project is in the public interest.

This notice announces the opening of the scoping process the Commission will use to gather input from the public and interested agencies on the Project. Your input will help the Commission staff determine what issues they need to evaluate in the EIS. Please note that the scoping period will close on September 4, 2012.

You may submit comments in written form or verbally. Further details on how to submit written comments are in the Public Participation section of this notice. In lieu of or in addition to sending written comments, the Commission invites you to attend the public scoping meeting scheduled as follows: FERC Public Scoping Meeting, Cameron Liquefaction Project, August 21, 2012, 6:00 p.m., Holiday Inn Express (Indigo Meeting), 330 Arena Road, Sulphur, LA 70665.

This notice is being sent to the Commission's current environmental mailing list for this Project. State and local government representatives should notify their constituents of this planned project and encourage them to comment on their areas of concern.

If you are a landowner receiving this notice, a company representative may contact you about the acquisition of an easement to construct, operate, and maintain the planned facilities. The company would seek to negotiate a mutually acceptable agreement. However, if the Commission approves the Project, that approval conveys with it the right of eminent domain. Therefore, if easement negotiations fail to produce an agreement, Cameron could initiate condemnation proceedings where compensation would be determined in accordance with state law.

A fact sheet prepared by the FERC entitled “An Interstate Natural Gas Facility on My Land? What Do I Need To Know?” is available for viewing on the FERC Internet Web site (www.ferc.gov). This fact sheet addresses a number of typically asked questions, including the use of eminent domain and how to participate in the Commission's proceedings.

Summary of the Planned Project

Cameron plans to expand its existing LNG import terminal in Cameron Parish, Louisiana to enable the terminal to liquefy natural gas and export the LNG. The planned facility would have an export capacity of 12 million metric tons per year (MTPY) while maintaining the current capability to import and re-gasify LNG. The related Cameron Pipeline Expansion Project would be constructed and operated to provide natural gas to the planned export terminal. The general locations of the planned pipeline and LNG export terminal are depicted in the figure included as Appendix 1.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

The Cameron Pipeline Expansion Project would include construction and operation of the following facilities:

• Approximately 21 miles of new 42-inch-diameter pipeline extending from an interconnection with the Florida Gas Transmission Pipeline in Calcasieu Parish, Louisiana to a new interconnection with the Trunkline Gas Pipeline in Beauregard Parish, Louisiana;

• A new 66,000-horsepower compressor station in Calcasieu Parish, Louisiana;

• A new interconnection and metering facilities with the Trunkline Gas Pipeline in Beauregard Parish, Louisiana; and

• Modifications to existing interconnections and metering facilities in Beauregard, Calcasieu, and Cameron Parishes.

Cameron plans to initiate construction of the Cameron Pipeline Expansion Project in the first quarter of 2015 and complete construction during the second quarter of 2016. The construction schedule would be driven by the need to complete construction of the pipeline by the planned time for commissioning of the initial liquefaction train at the LNG terminal in the fourth quarter of 2016 as described below.

The Cameron LNG Liquefaction Project would include construction and operation of the following facilities:

• Three liquefaction trains, with each train including a feed gas treatment unit, a heavy hydrocarbon removal unit, and a liquefaction unit (with a maximum LNG production capacity of 4 million MTPY each);

• A new 160,000-cubic-meter LNG storage tank;

• A new natural gas liquids (NGL) and refrigerant storage area;

• A new truck loading/unloading facility to unload refrigerants for transport to the storage area and to load NGLs produced during the gas liquefaction process;

• A new construction dock designed to receive barges transporting large equipment via the Calcasieu Ship Channel; and

• Nine natural gas-fueled combustion turbine generators that would generate approximately 200 megawatts of electric power.

Cameron plans to initiate construction of the Cameron LNG Liquefaction Project in the fourth quarter of 2013 and complete construction of the first LNG liquefaction train in the fourth quarter of 2016. Operations would commence after the commissioning of the first LNG liquefaction train. Cameron plans to have the Cameron Liquefaction Project fully constructed and operational by the fourth quarter of 2017.

Land Requirements for Construction

The Cameron Pipeline Expansion Project would require about 368 acres for construction, with 140 acres as previously disturbed during construction of the existing Cameron pipeline. A 25-acre temporary contractor yard would be located adjacent to the Ragley Compressor Station in Beauregard Parish, Louisiana. The new compressor station would require 30 acres for construction and operation. After construction, Cameron would maintain about 80 acres as permanent right-of-way. The remaining 258 acres of temporary workspace (including all temporary construction rights-of-way and extra workspaces) would be restored and allowed to revert to its former use. Approximately 16 miles of the new 21-mile-long pipeline would be constructed within existing permanent rights-of-way. The remaining 5 miles would be adjacent to existing pipeline/utility corridors, but outside of the existing permanent rights-of-way.

The Cameron LNG Liquefaction Project would be constructed adjacent to and north of the existing Cameron LNG Terminal on approximately 430 acres, of which approximately 50 acres is part of the existing terminal. All 430 acres would be used for construction (including an equipment laydown area) and operation of the terminal.

The EIS Process

The National Environmental Policy Act (NEPA) requires the Commission to take into account the environmental impacts that could result from an action whenever it considers the issuance of a Certificate of Public Convenience and Necessity under section 7(c) of the Natural Gas Act (NGA) and authorization to construct, install, and operate LNG facilities under Section 3(a) of the NGA. NEPA also requires us ² to discover and address concerns the public may have about proposals. This process is referred to as “scoping”. The main goal of the scoping process is to focus our analysis in the EIS on the important environmental issues. By this notice, the Commission requests public comments on the scope of issues to be addressed in the EIS. We will consider all filed comments during the preparation of the EIS.

² “We,” “us,” and “our” refer to the environmental staff of the Commission's Office of Energy Projects.

In the EIS, we will discuss impacts that could occur as a result of the construction and operation of the planned Cameron Liquefaction Project under the following general headings:

• Geology and soils;

• Water resources;

• Wetlands and vegetation;

• Fish and wildlife;

• Threatened and endangered species;

• Land use, recreation, and visual resources;

• Air quality and noise;

• Cultural resources;

• Socioeconomics;

• Reliability and safety;

• Engineering and design material; and

• Cumulative environmental impacts.

We will also evaluate possible alternatives to the planned Project or portions of the Project in the EIS, and make recommendations on how to lessen or avoid impacts on affected resources.

Although no formal application has been filed by Cameron, we have already initiated our NEPA review under the Commission's pre-filing process. The purpose of the pre-filing process is to encourage the early involvement of interested stakeholders and to identify and resolve issues before the FERC receives an application. As part of our pre-filing review, we have begun to contact some federal and state agencies to discuss their involvement in the scoping process and the preparation of the EIS.

The EIS will present our independent analysis of the issues. We will publish and distribute the draft EIS for public comment. After the comment period, we will consider all timely comments and revise the document, as necessary, before issuing a final EIS. To ensure we have the opportunity to consider and address your comments, please carefully follow the instructions in the Public Participation section beginning on page 7.

With this notice, we are asking agencies with jurisdiction by law and/or special expertise with respect to the environmental issues related to this Project to formally cooperate with us in the preparation of the EIS.³ Agencies that would like to request cooperating agency status should follow the instructions for filing comments provided under the Public Participation section of this notice. Currently, the Department of Energy has expressed its intention to participate as a cooperating agency in the preparation of the EIS to satisfy its NEPA responsibilities related to these projects.

³ The Council on Environmental Quality regulations addressing cooperating agency responsibilities are at Title 40, Code of Federal Regulations, 1501.6.

Consultations Under Section 106 of the National Historic Preservation Act

In accordance with the Advisory Council on Historic Preservation's implementing regulations for section 106 of the National Historic Preservation Act, we are using this notice to initiate consultation with the Office of the State of Louisiana Cultural Development, which has been given the role of State Historic Preservation Office (SHPO), and to solicit its views and those of other government agencies, interested Indian tribes, and the public on the Project's potential effects on historic properties.⁴ We will define the project-specific Area of Potential Effects in consultation with the SHPO as the Project develops. On natural gas facility projects, the Area of Potential Effects at a minimum encompasses all areas subject to ground disturbance (examples include construction right-of-way, contractor/pipe storage yards, compressor stations, and access roads). Our EIS for the Project will document our findings on the impacts on historic properties and summarize the status of consultations under section 106.

⁴ The Advisory Council on Historic Preservation regulations are at Title 36, Code of Federal Regulations, Part 800. Those regulations define historic properties as any prehistoric or historic district, site, building, structure, or object included in or eligible for inclusion in the National Register for Historic Places.

Currently Identified Environmental Issues

We have already identified many issues that we think deserve attention based on a preliminary review of the Project site and facilities and information provided by Cameron. The following preliminary list of issues may be changed based on your comments and our analysis:

• Potential impacts on perennial and intermittent waterbodies, including waterbodies with federal and/or state designations/protections;

• Evaluation of temporary and permanent impacts on wetlands and the development of appropriate mitigation;

• Potential impacts to fish and wildlife habitat, including potential impacts to federally and state-listed threatened and endangered species;

• Potential effects on prime farmland and erodable soils;

• Potential visual effects of the aboveground facilities on surrounding areas;

• Potential impacts and potential benefits of construction workforce on local housing, infrastructure, public services, and economy;

• Impacts on air quality and noise associated with construction and operation of the Project; and

• Public safety and hazards associated with the transport of natural gas and LNG.

Public Participation

You can make a difference by providing us with your specific comments or concerns about the Project. Your comments should focus on the potential environmental effects, reasonable alternatives, and measures to avoid or lessen environmental impacts. The more specific your comments, the more useful they will be. To ensure that your comments are timely and properly recorded, please send your comments so that the Commission receives them in Washington, DC on or before September 4, 2012. This is not your only public input opportunity; please refer to the Environmental Review Process flow chart in Appendix 2.

For your convenience, there are three methods you can use to submit your comments to the Commission. In all instances, please reference either or both Project docket numbers (PF12-12-000 and PF12-13-000) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the Project. We will update the environmental mailing list as the analysis proceeds to ensure that we send the information related to this environmental review to all individuals, organizations, and government entities interested in and/or potentially affected by the planned Project.

Copies of the completed draft EIS will be sent to the environmental mailing list for public review and comment. If you would prefer to receive a paper copy of the document instead of the CD version or would like to remove your name from the mailing list, please return the attached Information Request (Appendix 3).

Becoming an Intervenor

Once Cameron files its applications with the Commission, you may want to become an “intervenor,” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the planned Project.

Additional Information

Additional information about the Project is available from the Commission's Office of External Affairs, at (866) 208-FERC, or on the FERC Web site (www.ferc.gov) using the eLibrary link. Click on the eLibrary link, click on “General Search” and enter one of the docket numbers (enter only one docket number per search), excluding the last three digits in the Docket Number field (i.e., PF12-13). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Public meetings or site visits will be posted on the Commission's calendar located at www.ferc.gov/EventCalendar/EventsList.aspx along with other related information.

Finally, Cameron has established an Internet Web site for the Project at http://cameron.sempralng.com/liquefaction.html. The Web site includes a description of the Project, viewing locations for project materials and maps, frequently asked questions and responses, and links to related documents. You can also request additional information or provide comments directly to Cameron at (713) 298-5479.

Dated: August 6, 2012.
Kimberly D. Bose,
Secretary.

[FR Doc. 2012-19777 Filed 8-10-12; 8:45 am]

BILLING CODE 6717-01-P